DEPARTMENT OF DEFENSE

Office of the Secretary

Meeting of the United States Commission on National Security/21st Century

AGENCY: Department of Defense, Office of the Undersecretary of Defense (Policy).

ACTION: Notice of closed meetings.

SUMMARY: The United States Commission on National Security/21st Century will meet in closed session on September 18 and 19 and October 18, 2000. The Commission was originally chartered by the Secretary of Defense on 1 July 1998 (charter revised on 18 August 1999) to conduct a comprehensive review of the early twenty-first century global security environment; develop appropriate national security objectives and a strategy to attain these objectives; and recommend concomitant changes to the national security apparatus as necessary.

The Commission will meet in closed session on September 18 and 19 and October 18, 2000, to review draft sessions of its Phase Three report. By Charter, the Phase Three report is to be delivered to the Secretary of Defense no later than February 16, 2001.

In accordance with Section 10(d) of the Federal Advisory Committee Act, Public Law 92-463, as amended [5 U.S.C., Appendix II], it is anticipated that matters affecting national security, as covered by 5 U.S.C. 551b(c)(1)(1988), will be presented throughout the meetings, and that, accordingly, the meetings will be closed to the public.

DATES: Monday and Tuesday September 18 and 19, 2000, and Wednesday October 18, 2000, 8:30 a.m.-5 p.m.

ADDRESSES: Hyatt-Arlington, 1325 Wilson Boulevard, Arlington, Virginia 22209.

FOR FURTHER INFORMATION CONTACT: Contact Keith A. Dunn, National Security Study Group, Suite 532, Crystal Mall 3, 1931 Jefferson Davis Highway, Arlington, VA 22202-3805. Telephone 703-602-4175.

Dated: August 30, 2000.
L.M. Bynum,
OSD Federal Register Liaison Officer, Department of Defense.

[FR Doc. 00-22695 Filed 9-5-00; 8:45 am]

BILLING CODE 5001-10-M